INTERNATIONAL TRADE COMMISSION

[Investigation Nos. 701-TA-552-553 and 731-TA-1308 (Final)]

Certain New Pneumatic Off-the-Road Tires From India and Sri Lanka

Determinations

On the basis of the record ¹ developed in the subject investigations, the United States International Trade Commission (“Commission”) determines, pursuant to the Tariff Act of 1930 (“the Act”), that an industry in the United States is materially injured by reason of imports of certain new pneumatic off-the-road tires from India, provided for in headings 4011, 8431, 8709, and 8716 of the Harmonized Tariff Schedule of the United States, that have been found by the Department of Commerce (“Commerce”) to be sold in the United States at less than fair value (“LTFV”) and subsidized by the government of India, and by reason of imports of certain new pneumatic off-the-road tires found by Commerce to be subsidized by the government of Sri Lanka.2 3

¹ The record is defined in sec. 207.2(f) of the Commission's Rules of Practice and Procedure (19 CFR 207.2(f)).

² The Commission also finds that imports subject to Commerce's affirmative critical circumstances determination are not likely to undermine seriously the remedial effect of the countervailing duty orders on certain new pneumatic off-the-road tires from India and Sri Lanka.

³ Commissioner Dean A. Pinkert did not participate in these investigations.

Background

The Commission, pursuant to sections 705(b) and 735(b) of the Act (19 U.S.C. 1671d(b) and 19 U.S.C. 1673d(b)), instituted these investigations effective January 8, 2016, following receipt of petitions filed with the Commission and Commerce by Titan Tire Corporation of Des Moines, Iowa (“Titan”) and the United Steel, Paper and Forestry, Rubber, Manufacturing, Energy, Allied Industrial and Service Workers International Union, AFL-CIO, CLC of Pittsburgh, Pennsylvania (“USW”). The final phase of the investigations was scheduled by the Commission following notification of preliminary determinations by Commerce that imports of certain new pneumatic off-the-road tires from India and Sri Lanka were subsidized within the meaning of section 703(b) of the Act (19 U.S.C. 1671b(b)) and that imports of certain new pneumatic off-the-road tires from India were not dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on September 12, 2016 (81 FR 62760). The hearing was held in Washington, DC, on January 4, 2017, and all persons who requested the opportunity were permitted to appear in person or by counsel.

The Commission made these determinations pursuant to sections 705(b) and 735(b) of the Act (19 U.S.C. 1671d(b) and 19 U.S.C. 1673d(b)). It completed and filed its determinations in these investigations on February 23, 2017. The views of the Commission are contained in USITC Publication 4669 (February 2017), entitled Certain New Pneumatic Off-the-Road Tires from India and Sri Lanka: Investigation Nos. 701-TA-552-553 and 731-TA-1308 (Final).

By order of the Commission.
Issued: February 23, 2017.
Lisa R. Barton,
Secretary to the Commission.

[FR Doc. 2017-03906 Filed 2-27-17; 8:45 am]

BILLING CODE 7020-02-P